DEPARTMENT OF ENERGY

Federal Energy Regulatory Commission

[Project No. 309-062]

Brookfield Power Piney & Deep Creek, LLC; Notice of Application Accepted for Filing, Soliciting Motions To Intervene and Protests, Ready for Environmental Analysis, and Soliciting Comments, Recommendations, Terms and Conditions, and Fishway Prescriptions

July 9, 2008.

Take notice that the following hydroelectric application has been filed with the Commission and is available for public inspection:

a. Type of Application: Amendment of License.

b. Project No.: 309-062.

c. Date Filed: January 22, 2008.

d. Applicant: Brookfield Power Piney & Deep Creek, LLC.

e. Name of Project: Piney Hydroelectric Project.

f. Location: The project is located on the Clarion River, in Clarion County, Pennsylvania. The project does not occupy any federal lands.

g. Filed Pursuant to: Federal Power Act, 16 U.S.C. 791(a)-825(r).

h. Applicant Contacts: Mr. David Barnhart, West Virginia Production Center, P.O. Box 849, Gauley Bridge, WV 25085, (304) 981-6504, and Mr. Glen Neiport, Brookfield Power Piney & Deep Creek, LLC, Piney Station, 2000 River Road, Clarion, PA 16214, (814) 226-8630.

i. FERC Contact: Kelly Houff, (202) 502-6393, and e-mail Kelly.Houff@ferc.gov.

j. Deadline for filing comments, protests, motions to intervene, recommendations, preliminary terms and conditions, and fishway prescriptions is due 60 days from the issuance date of this notice; reply comments are due 105 days from the issuance date of this notice. All documents (original and eight copies) should be filed with: Kimberly D. Bose, Secretary, Federal Energy Regulatory Commission, 888 First Street, NE., Washington, DC 20426. Please include the project number (P-309-062) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

k. Description of Request: The existing licensed project consists of (1) A 784-foot-long and 125-foot-high concrete arch dam; (2) an 800-surface-acre reservoir, which operates at a minimum water surface elevation of 1,090 feet msl from June 21 through October 31, 1,085 feet msl from November 1 through March 31, and 1092.5 ± 0.5 feet msl from April 1 through June 20; (3) three 14-foot-diameter penstocks between 232 and 300 feet long; and (4) a powerhouse with three generating units totaling 29.08 megawatts installed capacity.

The licensee proposes to amend the license to implement the following: (1) To operate the reservoir on non-holiday weekdays from June 21 through October 31, between water surface elevations of 1,089 and 1,093 feet msl, a change from the current reservoir range of 1,090 and 1,093 feet msl. However, the licensee will maintain a minimum water surface elevation in the reservoir no lower than 1,090 feet msl, on weekends, where the weekend is defined as between 2400 hours on Friday through 2400 hours on Sunday. Additionally, the minimum reservoir surface elevation for the July 4 and Labor Day holidays shall be 1,090 feet msl, where the minimum reservoir level shall start at 1800 hours the day before the holiday and end on the holiday at 2400 hours; (2) repair, replace or extend the Mill Creek boat launch ramp as necessary so it can function at 1,089 feet; and (3) on the fifth anniversary date of the license, contribute $100,000 to an interest-bearing account (recreational account), whose funds shall be used by the licensee to pay for recreational and boating access enhancements that are agreed upon as necessary by the Piney Lake Advisory Council. The additional one-foot drawdown will increase the average annual generation at the project by approximately 675 megawatt hours per year.

l. Locations of Applications: A copy of the application is available for inspection and reproduction at the Commission in the Public Reference Room, located at 888 First Street, NE., Room 2A, Washington, DC 20426, or by calling (202) 502-8371. This filing may also be viewed on the Commission's Web site at http://www.ferc.gov using the “eLibrary” link. Enter the docket number excluding the last three digits in the docket number field to access the document. For assistance, call toll-free 1-866-208-3372 or e-mail FERCOnlineSupport@ferc.gov. For TTY, call (202) 502-8659. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Comments, protests, interventions, recommendations, terms and conditions, and fishway prescriptions may be filed electronically via the Internet in lieu of paper; see 18 CFR 385.2001(a)(1)(iii) and the instructions on the Commission's Web site under “e-filing” link. The Commission strongly encourages electronic filing.

o. Filing and Service of Responsive Documents: All filings must (1) Bear in all capital letters the title “PROTEST,” “MOTION TO INTERVENE,” “COMMENTS,” “REPLY COMMENTS,” “RECOMMENDATIONS,” “ TERMS AND CONDITIONS,” or “ FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). All comments, recommendations, terms and conditions or prescriptions should relate to project works which are the subject of the license amendment.

Agencies may obtain copies of the application directly from the applicant. A copy of all other filings in reference to this application must be accompanied by proof of service on all persons listed in the service list prepared by the Commission in this proceeding, in accordance with 18 CFR 4.34(b) and 385.2010.

Kimberly D. Bose,
Secretary.

[FR Doc. E8-16209 Filed 7-15-08; 8:45 am]

BILLING CODE 6717-01-P